FARM CREDIT ADMINISTRATION

12 CFR Parts 600, 602, 603, and 606

RIN 3052-AD17

FCA Organization; Updates and Technical Corrections

AGENCY: Farm Credit Administration.

ACTION: Notice of effective date.

SUMMARY: The Farm Credit Administration (FCA, we, Agency or our) amended our regulations to reflect changes to the FCA's organizational structure and correct the zip code for the field office located in Irving, TX. In addition, references in our regulations to various FCA offices, which have changed, have been revised. We also re-ordered the list of FCA offices into a more logical progression that is consistent with FCA's organizational chart. In accordance with the law, the effective date of the rule is no earlier than 30 days from the date of publication in the Federal Register during which either or both Houses of Congress are in session.

DATES: Effective Date: Under the authority of 12 U.S.C. 2252, the regulation amending 12 CFR parts 600, 602, 603, and 606 published on July 22, 2016 (81 FR 47691) is effective October 7, 2016.

FOR FURTHER INFORMATION CONTACT:

Michael T. Wilson, Policy Analyst, Office of Regulatory Policy, Farm Credit Administration, McLean, VA 22102-5090, (703) 883-4124, TTY (703) 883-4056,

or

Autumn Agans, Attorney-Advisor, Office of General Counsel, Farm Credit Administration, McLean, VA 22102-5090, (703) 883-4020, TTY (703) 883-4056.

SUPPLEMENTARY INFORMATION: The Farm Credit Administration amended our regulations to reflect changes to the FCA's organizational structure and correct the zip code for the field office located in Irving, TX. In addition, references in our regulations to various FCA offices, which have changed, have been revised. We also re-ordered the list of FCA offices into a more logical progression that is consistent with FCA's organizational chart. In accordance with 12 U.S.C. 2252, the effective date of the final rule is no earlier than 30 days from the date of publication in the Federal Register during which either or both Houses of Congress are in session. Based on the records of the sessions of Congress, the effective date of the regulations is October 7, 2016.

(12 U.S.C. 2252(a)(9) and (10))

Dale L. Aultman,
Secretary, Farm Credit Administration Board.

[FR Doc. 2016-24313 Filed 10-6-16; 8:45 am]

BILLING CODE 6705-01-P